ENVIRONMENTAL PROTECTION AGENCY

[FRL-8924-3]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held July 21 and 22, 2009 at the USEPA East Building, Room 1117A, 1201 Constitution Ave., Washington, DC. The CHPAC was created to advise the Environmental Protection Agency on science, regulations, and other issues relating to children's environmental health.

DATES: The CHPAC will meet July 21 and 22, 2009.

ADDRESSES: USEPA East Building, Room 1117A.

FOR FURTHER INFORMATION CONTACT: Martha Berger, Office of Children's Health Protection, USEPA, MC 1107A, 1200 Pennsylvania Avenue, NW., Washington, DC 20460, (202) 564-2191, berger.martha@epa.gov.

SUPPLEMENTARY INFORMATION: The meetings of the CHPAC are open to the public. The CHPAC will meet on Tuesday, July 21 from 8:30 a.m. to 5:30 p.m., and Wednesday, July 21 from 8:30 a.m. to 12:30 p.m. Agenda items include a discussion and a review of recommendations for the next edition of the America's Children and the Environment report, discussion on environmental health disparities, chemical management and air pollution.

Access and Accommodations: For information on access or services for individuals with disabilities, please contact Martha Berger at 202-564-2191 or berger.martha@epa.gov. To request accommodation of a disability, please contact Martha Berger, preferably at least 10 days prior to the meeting.

Dated: June 22, 2009.
Martha Berger,
Designated Federal Official.

CHPAC Draft Agenda

Tuesday, July 21, 2009

9-9:30 a.m.—Welcome, Introductions, Review Meeting Agenda, Review CHPAC Role and Group Expectations;

9:30-10 a.m.—Highlights of Recent OCHP Activities;

10-11 a.m.—ACE Indicators Draft Report and Letter;

11-11:15 a.m.—Break;

11:15 a.m.-12 p.m.—Air Quality and Children's Health Update;

12-1:15 p.m.—Lunch (on your own);

1:15-2:45 p.m.—Chemicals Management and Children's Health Panel;

2:45-3 p.m.—Break;

3-3:30 p.m.—Air Toxics Monitoring Initiative Update;

3:30-4 p.m.—Report From Climate Change Task Group;

4-4:45 p.m.—ACE Indicators Report and Draft Letter;

4:45 p.m.—Public Comment;

5 p.m.—Adjourn.

Wednesday, July 22, 2009

9-9:15 a.m.—Check in and Agenda Review;

9:15-9:45 a.m.—Report from School Siting Guidelines Task Group;

9:45-10:45 a.m.—ACE Indicators Report and Recommendation Letter;

10:45-11 a.m.—Break;

11 a.m.-12 p.m.—Children's Health and Environmental Health Disparities;

12-12:30 p.m.—Review Discussions, Decisions, and Possible Next Steps;

12:30 p.m.—Adjourn.

[FR Doc. E9-15421 Filed 6-29-09; 8:45 am]

BILLING CODE 6560-50-P